DEPARTMENT OF TRANSPORTATION

Federal Aviation Administration

14 CFR Part 73

[Docket No. FAA-2006-26273; Airspace Docket No. 06-ASO-16]

RIN 2120-AA66

Change of Using Agency for Restricted Areas R-3008A, B, C, and D; Grand Bay Weapons Range, GA

AGENCY: Federal Aviation Administration (FAA), DOT.

ACTION: Final rule.

SUMMARY: This action changes the name of the using agency for Restricted Areas R-3008A, B, C, and D, Grand Bay Weapons Range, GA, from “U.S. Air Force, 347th Rescue Wing, Moody AFB, GA” to “U.S. Air Force, 23rd Wing, Moody AFB, GA.” As a result of the Base Realignment and Closure process, the 347th Rescue Wing was officially redesignated the 23rd Wing effective October 1, 2006. This is an administrative change that does not alter the boundaries, designated altitudes, time of designation, or activities conducted within the affected restricted areas.

DATES: Effective Dates: 0901 UTC, January 18, 2007.

FOR FURTHER INFORMATION CONTACT: Paul Gallant, Airspace and Rules, Office of System Operations Airspace and AIM, Federal Aviation Administration, 800 Independence Avenue, SW., Washington, DC 20591; telephone: (202) 267-8783.

The Rule

This action amends Title 14 Code of Federal Aviation Regulations (14 CFR) part 73 by changing the name of the using agency for Restricted Areas R-3008A, B, C, and D, Grand Bay Weapons Range, GA, from “U.S. Air Force, 347th Rescue Wing, Moody AFB, GA,” to “U.S. Air Force, 23rd Wing, Moody AFB, GA.” This change is necessary due to the official redesignation of the Wing's title by the Base Closure and Realignment process. This is an administrative change only and does not affect the boundaries, designated altitudes, or activities conducted within the restricted areas. Therefore, notice and public procedures under 5 U.S.C. 553(b) is unnecessary.

Section 73.30 of 14 CFR part 73 of the Federal Aviation Regulations was republished in FAA Order 7400.8M, dated January 6, 2006.

The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. Section 73.30 is amended as follows:

* * * * *

R-3008A [Amended]

Under Using agency, by removing the words “U.S. Air Force, 347th Rescue Wing, Moody AFB, GA” and inserting the words “U.S. Air Force, 23rd Wing, Moody AFB, GA.”

R-3008B [Amended]

Under Using agency, by removing the words “U.S. Air Force, 347th Rescue Wing, Moody AFB, GA” and inserting the words “U.S. Air Force, 23rd Wing, Moody AFB, GA.”

R-3008C [Amended]

Under Using agency, by removing the words “U.S. Air Force, 347th Rescue Wing, Moody AFB, GA” and inserting the words “U.S. Air Force, 23rd Wing, Moody AFB, GA.”

R-3008D [Amended]

Under Using agency, by removing the words “U.S. Air Force, 347th Rescue Wing, Moody AFB, GA” and inserting the words “U.S. Air Force, 23rd Wing, Moody AFB, GA.”

* * * * *

Issued in Washington, DC on November 14, 2006.
Edith V. Parish,
Manager, Airspace and Rules.

[FR Doc. E6-19822 Filed 11-22-06; 8:45 am]

BILLING CODE 4910-13-P